DEPARTMENT OF COMMERCE

National Oceanic and Atmospheric Administration

[I.D. 101200C]

Marine Mammals; File No. 376-1520-01

AGENCY: National Marine Fisheries Service (NMFS), National Oceanic and Atmospheric Administration (NOAA), Commerce.

ACTION: Issuance of permit amendment.

SUMMARY: Notice is hereby given that Dr. James H.W. Hain, Holder/Principal Investigator, Associated Scientists of Woods Hole, Box 721, 3 Water Street, Woods Hole, Massachusetts 02543, has been issued an amendment to permit no. 376-1520 to take marine mammals for purposes of scientific research.

ADDRESSES: The permit and related documents are available for review upon written request or by appointment in the following office(s):

Permits and Documentation Division, Office of Protected Resources, NMFS, 1315 East-West Highway, Room 13705, Silver Spring, MD 20910 (301/713-2289);

Regional Administrator, Northeast Region, NMFS, One Blackburn Drive, Gloucester, MA 01930, (978/281-9250); and

Regional Administrator, Southeast Region, NMFS, 9721 Executive Center Drive North, St. Petersburg, FL 33702-2432 (813/570-5312).

FOR FURTHER INFORMATION CONTACT: Simona Roberts or Ruth Johnson, 301/713-2289.

SUPPLEMENTARY INFORMATION: On June 23, 1999, Notice was published in the Federal Register (64 FR 33470) that a request for a scientific research permit to take various cetacean species, harbor and grey seals, and sea turtles during aerial/vessel surveys, collect stomach contents and baleen, and conduct passive acoustic activities had been submitted by the above-named individual. A modified version of the permit request was issued on March 20, 2000 under authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-227). The take of right whales, sea turtles, and stomach contents/baleen was not issued in the original permit.

This amendment now authorizes the permit holder to conduct aerial surveys and behavioral studies on right whales in the western North Atlantic Ocean from a blimp platform at a minimum altitude of 500 feet directly above and a minimum altitude of 350 feet slant range. The expiration date has also been extended to March 31, 2005.

Issuance of this amendment, as required by the ESA, was based on a finding that such permit (1) was applied for in good faith, (2) will not operate to the disadvantage of the endangered species which is the subject of this permit, and (3) is consistent with the purposes and policies set forth in section 2 of the ESA.

Dated: October 26, 2000.
Ann D. Terbush,
Chief, Permits and Documentation Division, Office of Protected Resources, National Marine Fisheries Service.

[FR Doc. 00-28157 Filed 11-1-00; 8:45 am]

BILLING CODE: 3510-22-S